DEPARTMENT OF JUSTICE

Antitrust Division

Notice Pursuant to the National Cooperative Research and Production Act of 1993—Information Warfare Research Project Consortium

Notice is hereby given that, on April 6, 2022, pursuant to Section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, Applied Engineering Management Corporation, Herndon, VA; Aurora Insight, Inc., Denver, CO; Base-2 Solutions LLC, Washington, DC; By Light Professional IT Services LLC, McLean, VA; CableLabs, Inc., Louisville, CO; Capgemini Government Solutions LLC, McLean, VA; Chenega Decision Sciences LLC, Anchorage, AK; Cognovi Government Services, Dayton, OH; Core4ce LLC, Reston, VA; Data Systems Analysts, Inc., Trevose, PA; DRS Signal Solutions, Inc., Germantown, MD; Equinox Innovative Systems, Columbia, MD; Executive Airborne Solutions, Inc., Bellevue, NE; First RF Corporation, Boulder, CO; FutureGen Robotics LLC, Boca Raton, FL; GE Aviation Systems, Grand Rapids, MI; High Side Technology LLC, Summerville, SC; ICF Incorporated LLC, Fairfax, VA; IntelliDyne LLC, Falls Church, VA; Invictus International Consulting, Alexandria, VA; J-Mack Technologies LLC, Fort Worth, TX; KYRUS Tech, Inc., Sterling, VA; Leapfrog AI dba Defense Unicorns, Colorado Springs, CO; McQ, Inc., Fredericksburg, VA; MKS2 LLC, Lakeway, TX; Mynaric USA, Inc., Hawthorne, VA; Netrist Solutions LLC, Charleston, SC; Novateur Research Solutions LLC, Ashburn, VA; P&J Robinson Corp, Boerne, TX; Precision Solutions LLC, Owings Mills, MD; Red Pulley Technology Solutions, Inc., Ashburn, VA; SparkCognition Government Systems, Inc., Austin, TX; TACG LLC, Beavercreek, OH; Tim Price, Inc., Winchester, VA; Vertex Aerospace LLC, Madison, MS; VivSoft Technologies LLC, Brambleton, VA; and W.S. Darley & Co, Itasca, NC, have been added as parties to this venture.

Also, 11 Cyber Services LLC, Mt Pleasant, SC; Abside Networks, Inc., Acton, MA; Applied Insight LLC, Tysons, VA; Artlin Consulting LLC, Vienna, VA; Aspen Consulting Group, Inc., Point Pleasant, NJ; Aviation & Missile Solutions LLC, Huntsville, AL; Bluestone Analytics LLC, Charlottesville, VA; Cambridge International Systems, Inc., Arlington, VA; Capstone Corporation, Alexandria, VA; Capstone Partners, Inc., Lancaster, PA; Cask NX LLC, San Diego, CA; CoAspire LLC, Fairfax, VA; Corsair Technical Services, Inc., Bellevue, WA; CRFS, Inc., Chantilly, VA; Darkblade Systems Corporation, Winchester, VA; Engineering USA, Windsor Locks, CT; Excelerated Analytics LLC, Woodbridge, VA; Haivision Network Video, Inc., Deerfield, IL; Kaizen Approach, Inc., Hanover, MD; KIHOMAC, Inc., Reston, VA; KinetX Aerospace, Inc., Tempe, AZ; Kingfisher Systems, Inc., Falls Church, VA; Knight Sky LLC, Frederick, MD; Optimal Solutions and Technologies, McLean, VA; Partnership Solutions International, Painesville, OH; Procentrix, Inc., Herndon, VA; Quantitative Scientific Solutions LLC, Arlington, VA; Red Octopus Digital Services LLC, Arlington, VA; Selection Pressure LLC dba Ion Channel, Alexandria, VA; Semper Fortis Solutions, Leesburg, VA; Sher Industries LLC, Daniel Island, SC; TapHere! Technology LLC, Manassas, VA; Teksouth Corporation, Gardendale, AL; Tercero Technologies LLC, Pittsburgh, PA; The MIL Corporation, Bowie, MD; Thinklogical LLC, Milford, CT; Veritech LLC, Glendale, AZ; and Vista Defense Technologies LLC, Rock Island, IL, have withdrawn from this venture.

No other changes have been made in either the membership or planned activity of the group research project. Membership in this group research project remains open, and IWRP intends to file additional written notifications disclosing all changes in membership.

On October 15, 2018, IWRP filed its original notification pursuant to Section 6(a) of the Act. The Department of Justice published a notice in the Federal Register pursuant to Section 6(b) of the Act on October 23, 2018 (83 FR 53499).

The last notification was filed with the Department on February 22, 2022. A notice was published in the Federal Register pursuant to Section 6(b) of the Act on March 11, 2022 (87 FR 14042).

Suzanne Morris,
Chief, Premerger and Division Statistics, Antitrust Division.

[FR Doc. 2022-10271 Filed 5-12-22; 8:45 am]

BILLING CODE P